DEPARTMENT OF TRANSPORTATION

Federal Aviation Administration

14 CFR Part 39

[Docket No. FAA-2004-19988; Directorate Identifier 2004-NM-30-AD]

RIN 2120-AA64

Airworthiness Directives; Boeing Model 727-200 Series Airplanes Equipped With a No. 3 Cargo Door

AGENCY: Federal Aviation Administration (FAA), DOT.

ACTION: Notice of proposed rulemaking (NPRM).

SUMMARY: The FAA proposes to adopt a new airworthiness directive (AD) for certain Boeing Model 727-200 series airplanes equipped with a No. 3 cargo door. This proposed AD would require repetitive detailed and high frequency eddy current inspections for cracking of the forward, lower corner frame and forward end of the lower beam of the No. 3 cargo door, and corrective actions if necessary. The proposed AD provides an optional terminating action for the repetitive inspections. This proposed AD is prompted by reports of cracking at the forward, lower corner frame and lower beam of the No. 3 cargo door. We are proposing this AD to detect and correct cracking of the forward, lower corner frame and forward end of the lower beam of the No. 3 cargo door, which could result in failure of the affected door stops, loss of the cargo door, and consequent rapid decompression of the airplane.

DATES: We must receive comments on this proposed AD by February 22, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

You can get the service information identified in this proposed AD from Boeing Commercial Airplanes, P.O. Box 3707, Seattle, Washington 98124-2207.

You may examine the contents of this AD docket on the Internet at http://dms.dot.gov, or in person at the Docket Management Facility, U.S. Department of Transportation, 400 Seventh Street SW., room PL-401, on the plaza level of the Nassif Building, Washington, DC.

FOR FURTHER INFORMATION CONTACT: Technical information: Daniel F. Kutz, Aerospace Engineer, Airframe Branch, ANM-120S, FAA, Seattle Aircraft Certification Office, 1601 Lind Avenue, SW., Renton, Washington 98055-4056; telephone (425) 917-6456; fax (425) 917-6590.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2004-19988; Directorate Identifier 2004-NM-30-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You may examine the AD docket in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received reports of cracking on the forward, lower corner frame and lower beam of the No. 3 cargo door, on certain Boeing Model 727-200 series airplanes. The affected airplanes had approximately 32,773 to 70,187 flight hours and 33,383 to 54,541 pressurization cycles. Investigation revealed that the cracking was caused by fatigue as a result of the cabin pressurization cycles. This condition, if not corrected, could result in failure of the affected door stops, loss of the cargo door, and consequent rapid decompression of the airplane.

Relevant Service Information

We have reviewed Boeing Special Attention Service Bulletin 727-52-0149, dated October 16, 2003. The service bulletin describes procedures for repetitive detailed and high frequency eddy current (HFEC) inspections for cracking of the forward, lower corner frame and forward end of the lower beam of the No. 3 cargo door. Generally, the initial inspection is done before accumulating 30,000 total flight cycles or within 2,000 flight cycles after the release date of the service bulletin, whichever is later. The service bulletin also states the inspections should be repeated at intervals not to exceed 4,500 flight cycles. The service bulletin also includes procedures for corrective actions. For airplanes on which cracking is found, the corrective actions include repairing areas with cracking. The repair procedures include fabricating/installing repair parts and a preventative modification, which eliminates the need for the repetitive inspections. The preventative modification includes installing beam modification parts and a frame reinforcement angle on the No. 3 cargo door. The preventative modification can also be done on airplanes on which no cracking is found. We have determined that accomplishing the actions specified in the service bulletin will adequately address the unsafe condition.

FAA's Determination and Requirements of the Proposed AD

We have evaluated all pertinent information and identified an unsafe condition that is likely to exist or develop on other airplanes of this same type design. Therefore, we are proposing this AD, which would require repetitive detailed and HFEC inspections for cracking of the forward, lower corner frame and lower beam of the No. 3 cargo door, and corrective actions if necessary. The proposed AD would require you to use the service information described previously to perform these actions. The proposed AD provides an optional terminating action for the repetitive inspections.

Costs of Compliance

This proposed AD would affect about 390 Model 727-200 series airplanes worldwide. The following table provides the estimated costs for U.S. operators to comply with this proposed AD.

Estimated Costs
Action | Work hours | Average labor rate per hour | Parts | Cost per airplane | Number of U.S.-registered airplanes | Fleet cost
Detailed and HFEC Inspections, per inspection cycle | 2 | $65 | None | $130 | 274 | $35,620

Authority for this Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2004-19988; Directorate Identifier 2004-NM-30-AD.

Comments Due Date

(a) The Federal Aviation Administration (FAA) must receive comments on this AD action by February 22, 2005.

Affected ADs

(b) None.

Applicability

(c) This AD applies to Boeing Model 727-200 series airplanes, equipped with a No. 3 cargo door, as listed in Boeing Special Attention Service Bulletin 727-52-0149, dated October 16, 2003; certificated in any category.

Unsafe Condition

(d) This AD was prompted by reports of cracking at the forward, lower corner frame and lower beam of the No. 3 cargo door. We are proposing this AD to detect and correct cracking of the forward, lower corner frame and forward end of the lower beam of the No. 3 cargo door, which could result in failure of the affected door stops, loss of the cargo door, and consequent rapid decompression of the airplane.

Compliance

(e) You are responsible for having the actions required by this AD performed within the compliance times specified, unless the actions have already been done.

Repetitive Detailed and High Frequency Eddy Current (HFEC) Inspections

(f) Do detailed and HFEC inspections for cracking of the forward, lower corner frame and forward end of the lower beam of the No. 3 cargo door by accomplishing all of the applicable actions specified in the Accomplishment Instructions of Boeing Special Attention Service Bulletin 727-52-0149, dated October 16, 2003. Do the inspections at the times specified in the applicable table in paragraph 1.E., “Compliance,” of the service bulletin, except as required by paragraph (g) of this AD. Repeat the inspections thereafter at intervals not to exceed 4,500 flight cycles. Doing the applicable actions in paragraph (h) or (j) of this AD terminates the repetitive inspections.

(g) Where the service bulletin specified in paragraph (f) of this AD provides a threshold relative to the release date of the service bulletin, this AD requires compliance within the applicable threshold following the effective date of this AD, if the “total airplane flight cycles” or “total replaced door flight cycles” threshold has been exceeded.

Corrective Actions

(h) For airplanes on which cracking is found during any inspection required by paragraph (f) of this AD: Before further flight, do all of the applicable corrective actions specified in the Accomplishment Instructions of Boeing Special Attention Service Bulletin 727-52-0149, dated October 16, 2003. Repairing any affected area terminates the repetitive inspections required by paragraph (f) of this AD.

Parts Installation

(i) Any replacement No. 3 cargo door installed on any airplane after the effective date of this AD must be inspected or modified in accordance with either paragraph (i)(1) or (i)(2) of this AD, as applicable.

(1) If the number of total flight cycles on the door can be positively determined: Do the actions required by paragraphs (f) and (h) of this AD, as applicable, or paragraph (j) of this AD. Do the actions at the times specified in Table 2 of paragraph 1.E., “Compliance,” of Boeing Special Attention Service Bulletin 727-52-0149, dated October 16, 2003.

(2) If the number of total flight cycles on the door cannot be positively determined: Do the actions required by paragraphs (f) and (h) of this AD, as applicable, or paragraph (j) of this AD, before installing the door.

Optional Terminating Action

(j) Concurrently with doing the inspection required by paragraph (f) of this AD, if no cracking is found, doing the preventative modification specified in paragraph 3.B.2. of the Accomplishment Instructions of Boeing Special Attention Service Bulletin 727-52-0149, dated October 16, 2003, terminates the repetitive inspections required by paragraph (f) of this AD.

Alternative Methods of Compliance (AMOCs)

(k)(1) The Manager, Seattle Aircraft Certification Office (ACO), FAA, has the authority to approve AMOCs for this AD, if requested using the procedures found in 14 CFR 39.19.

(2) An AMOC that provides an acceptable level of safety may be used for any repair for cracking required by this AD, if it is approved by a Boeing Company Designated Engineering Representative who has been authorized by the Manager, Seattle ACO, to make such findings. For a repair method to be approved, the approval must specifically reference this AD.

Issued in Renton, Washington, on December 27, 2004.
Kevin M. Mullin,
Acting Manager, Transport Airplane Directorate, Aircraft Certification Service.

[FR Doc. 05-167 Filed 1-4-05; 8:45 am]

BILLING CODE 4910-13-P